FEDERAL EMERGENCY MANAGEMENT AGENCY

44 CFR Part 64

[Docket No. FEMA-7736]

List of Communities Eligible for the Sale of Flood Insurance

AGENCY: Federal Emergency Management Agency (FEMA).

ACTION: Final rule.

SUMMARY: This rule identifies communities participating in the National Flood Insurance Program (NFIP). These communities have applied to the program and have agreed to enact certain floodplain management measures. The communities' participation in the program authorizes the sale of flood insurance to owners of property located in the communities listed.

EFFECTIVE DATES: The dates listed in the third column of the table.

ADDRESSES: Flood insurance policies for property located in the communities listed can be obtained from any licensed property insurance agent or broker serving the eligible community, or from the NFIP at: Post Office Box 6464, Rockville, MD 20849, (800) 638-6620.

FOR FURTHER INFORMATION CONTACT: Donna M. Dannels, Branch Chief, Policy, Assessment and Outreach Division, Mitigation Directorate, 500 C Street SW., room 411, Washington, DC 20472, (202) 646-3098.

SUPPLEMENTARY INFORMATION: The NFIP enables property owners to purchase flood insurance which is generally not otherwise available. In return, communities agree to adopt and administer local floodplain management measures aimed at protecting lives and new construction from future flooding. Since the communities on the attached list have recently entered the NFIP, subsidized flood insurance is now available for property in the community.

In addition, the Associate Director of the Federal Emergency Management Agency has identified the special flood hazard areas in some of these communities by publishing a Flood Hazard Boundary Map (FHBM) or Flood Insurance Rate Map (FIRM). The date of the flood map, if one has been published, is indicated in the fourth column of the table. In the communities listed where a flood map has been published, Section 102 of the Flood Disaster Protection Act of 1973, as amended, 42 U.S.C. 4012(a), requires the purchase of flood insurance as a condition of Federal or federally related financial assistance for acquisition or construction of buildings in the special flood hazard areas shown on the map.

The Associate Director finds that the delayed effective dates would be contrary to the public interest. The Associate Director also finds that notice and public procedure under 5 U.S.C. 553(b) are impracticable and unnecessary.

National Environmental Policy Act. This rule is categorically excluded from the requirements of 44 CFR Part 10, Environmental Considerations. No environmental impact assessment has been prepared.

Regulatory Flexibility Act. The Associate Director certifies that this rule will not have a significant economic impact on a substantial number of small entities in accordance with the Regulatory Flexibility Act, 5 U.S.C. 601 et seq., because the rule creates no additional burden, but lists those communities eligible for the sale of flood insurance.

Regulatory Classification. This final rule is not a significant regulatory action under the criteria of section 3(f) of Executive Order 12866 of September 30, 1993, Regulatory Planning and Review, 58 FR 51735.

Paperwork Reduction Act. This rule does not involve any collection of information for purposes of the Paperwork Reduction Act, 44 U.S.C. 3501 et seq.

Executive Order 12612, Federalism. This rule involves no policies that have federalism implications under Executive Order 12612, Federalism, October 26, 1987, 3 CFR, 1987 Comp., p. 252.

Executive Order 12778, Civil Justice Reform. This rule meets the applicable standards of section 2(b)(2) of Executive Order 12778, October 25, 1991, 56 FR 55195, 3 CFR, 1991 Comp., p. 309.

List of Subjects in 44 CFR Part 64.

Flood insurance, Floodplains.

Accordingly, 44 CFR part 64 is amended as follows:

PART 64—[AMENDED]

1. The authority citation for Part 64 continues to read as follows:

Authority: 42 U.S.C. 4001 et seq., Reorganization Plan No. 3 of 1978, 3 CFR, 1978 Comp., p. 329; E.O. 12127, 44 FR 19367, 3 CFR, 1979 Comp., p. 376.

§ 64.6 [Amended]

2. The tables published under the authority of § 64.6 are amended as follows:

State/location | Community No. | Effective date of eligibility | Current effective map date
NEW ELIGIBLES—Emergency Program
North Carolina: Norwood, town of, Stanley County | 370509 | May 17, 2000 |
Texas:
Jones County, unincorporated areas | 480884 | June 15, 2000 |
Lamb County, unincorporated areas | 480893 | ......do. |
Navarro County, unincorporated areas | 480950 | ......do. | December 27, 1977.
Riverside, city of, Walker County | 481044 | June 26, 2000 | November 19, 1976.
Georgia: Candler County, unincorporated areas | 130574 | June 27, 2000 |
North Carolina: Aulander, town of, Bertie County | 370018 | ......do. |
South Carolina: Sycamore, town of, Allendale County | 450011 | ......do. |
Wyoming: Basin, town of, Big Horn County | 560069 | June 30, 2000 |
NEW ELIGIBLES—Regular Program
Texas: Krugerville, city of, Denton County | 481661 | June 6, 2000 | April 2, 1997.
Minnesota: Becker, city of, Sherburne County ¹ | 270710 | June 12, 2000 | May 4, 2000.
Texas: Mustang Ridge, city of, Travis and Caldwell Counties ² | 481687 | June 15, 2000 | May 5, 2000.
Georgia:
Brooks, town of, Fayette County | 130430 | June 27, 2000 | March 18, 1996.
Colquitt County, unincorporated areas | 130058 | ......do | July 16, 1997.
North Carolina:
Clemmons, village of, Forsyth County ³ | 370531 | ......do | October 20, 1998.
Kernersville, town of, Forsyth County | 370309 | ......do | October 20, 1998.
St. James, town of, Brunswick County ⁴ | 370530 | ......do | August 18, 1992.
REINSTATMENTS
Iowa: Clutier, city of, Tama County | 190514 | October 6, 1976 Emer August 19, 1985 Reg June 3, 1988 Susp June 12, 2000 Rein | August 19, 1985.
Virginia: Nottoway County, unincorporated areas | 510307 | May 7, 1975 Emer September 1, 1987 Reg September 1, 1987 Susp June 27, 2000 Rein | September 1, 1987.
REGULAR PROGRAM CONVERSIONS
Region I
New Hampshire:
Brentwood, town of, Rockingham County | 330125 | May 4, 2000 Suspension Withdrawn | May 4, 2000.
Charlestown, town of, Sullivan County | 330153 | ......do | Do.
Walpole, town of, Cheshire County | 330027 | ......do | Do.
Region II
New York:
Cooperstown, village of, Otsego County | 360665 | ......do | Do.
Greenwich, village of, Washington County | 360887 | ......do | Do.
New Bremen, town of, Lewis County | 360373 | ......do | Do.
New York Mills, village of, Oneida County | 360537 | ......do | Do.
Whitesboro, village of, Oneida County | 360566 | ......do | Do.
Whitestown, town of, Oneida County | 360567 | ......do | Do.
Yorkville, village of, Oneida County | 360568 | ......do | Do.
Region III
West Virginia: Grant County, unincorporated areas | 540038 | ......do | Do.
Region IV
North Carolina: Spring Lake, town of, Cumberland County | 370484 | ......do | Do.
Region V
Minnesota:
Elk River, city of, Sherburne County | 270436 | ......do | Do.
Sherburne County, unincorporated areas | 270435 | ......do | Do.
Region X
Washington: Aberdeen, city of, Grays Harbor County | 530058 | ......do | Do.
Region II
New York:
Clarkstown, town of, Rockland County | 360679 | May 18, 2000 Suspension Withdrawn. | May 18, 2000.
Painted Post, village of, Steuben County | 360779 | ......do | Do.
Region III
West Virginia:
Logan County, unincorporated areas | 545536 | ......do | Do.
Morgan County, unincorporated areas | 540144 | ......do | Do.
Region V
Wisconsin: Crawford County, unincorporated areas | 555551 | ......do | Do.
¹ The City of Becker adopted Sherburne County's (CID #270435) Flood Insurance Rate Map (FIRM), dated May 4, 2000, panels 0220E, 0240E, 0310E, 0330E and 0335E.
² The City of Mustang Ridge adopted Travis County's (CID #481026) FIRM, dated June 5, 1997, panels 0140E, 0145E, 0180E, 0185E and the FIRM for Caldwell County (CID #480094), panel 0025C.
³ The Village of Clemmons adopted Forsyth County's (CID #375349) FIRM, dated October 20, 1998, panel 242H.
⁴ The Town of St. James adopted Brunswick County's (CID #370295) FIRM, dated August 18 1992, panels 360C and 380E.
Code for reading third column: Emerg.—Emergency; Reg.—Regular; Rein.—Reinstatement; Susp.—Suspension; With.—Withdrawn; NSFHA—Non Special Flood Hazard Area.

(Catalog of Federal Domestic Assistance No. 83.100, “Flood Insurance.”)

Issued: September 26, 2000.
Michael J. Armstrong,
Associate Director for Mitigation.

[FR Doc. 00-26602 Filed 10-16-00; 8:45 am]

BILLING CODE 6718-05-P